SUSQUEHANNA RIVER BASIN COMMISSION

Public Hearing

AGENCY: Susquehanna River Basin Commission.

ACTION: Notice.

SUMMARY: The Susquehanna River Basin Commission will hold a public hearing on February 14, 2013, in Harrisburg, Pennsylvania. At this public hearing, the Commission will hear testimony on the projects listed in the Supplementary Information section of this notice. Such projects are intended to be scheduled for Commission action at its next business meeting, tentatively scheduled for March 21, 2013, which will be noticed separately. The public should take note that this public hearing will be the only opportunity to offer oral comment to the Commission for the listed projects. The deadline for the submission of written comments is February 25, 2013.

DATES: The public hearing will convene on February 14, 2013, at 1:00 p.m. The public hearing will end at 2:45 p.m. or at the conclusion of public testimony, whichever is sooner. The deadline for the submission of written comments is February 25, 2013.

ADDRESSES: The public hearing will be conducted at the Pennsylvania State Capitol, Room 8E-B, East Wing, Commonwealth Avenue, Harrisburg, Pa.

FOR FURTHER INFORMATION CONTACT: Richard A. Cairo, General Counsel, telephone: (717) 238-0423, ext. 306; fax: (717) 238-2436.

Information concerning the applications for these projects is available at the SRBC Water Resource Portal at www.srbc.net/wrp. Materials and supporting documents are available to inspect and copy in accordance with the Commission's Access to Records Policy at www.srbc.net/pubinfo/docs/2009-02%20Access%20to%20Records%20Policy%209-10-09.PDF.

Opportunity To Appear and Comment: Interested parties may appear at the hearing to offer comments to the Commission on any project listed below. The presiding officer reserves the right to limit oral statements in the interest of time and to otherwise control the course of the hearing. Ground rules will be posted on the Commission's web site, www.srbc.net, prior to the hearing for review. The presiding officer reserves the right to modify or supplement such rules at the hearing. Written comments on any project listed below may also be mailed to Mr. Richard Cairo, General Counsel, Susquehanna River Basin Commission, 1721 North Front Street, Harrisburg, Pa. 17102-2391, or submitted electronically through http://www.srbc.net/pubinfo/publicparticipation.htm. Comments mailed or electronically submitted must be received by the Commission on or before February 25, 2013, to be considered.

SUPPLEMENTARY INFORMATION: The public hearing will cover the following projects:

Projects Scheduled for Rescission Action

1. Project Sponsor: AES Westover, LLC. Project Facility: AES Westover Generating Station, Town of Union and Village of Johnson City, Broome County, N.Y. (Docket No. 20070902).

2. Project Sponsor and Facility: Clark Trucking, LLC Northeast Division (Lycoming Creek), Lewis Township, Lycoming County, Pa. (Docket No. 20111207).

3. Project Sponsor and Facility: Southwestern Energy Production Company (Tuscarora Creek), Tuscarora Township, Bradford County, Pa. (Docket No. 20110313).

4. Project Sponsor and Facility: EQT Production Company (Frano Freshwater Impoundment), Washington Township, Jefferson County, Pa. (Docket No. 20110913).

Projects Scheduled for Action

1. Project Sponsor and Facility: Anadarko E&P Company LP (West Branch Susquehanna River), Nippenose Township, Lycoming County, Pa. Application for renewal of surface water withdrawal of up to 0.720 mgd (peak day) (Docket No. 20090307).

2. Project Sponsor and Facility: Black Bear Waters, LLC (Lycoming Creek), Lewis Township, Lycoming County, Pa. Modification to increase surface water withdrawal by an additional 0.500 mgd (peak day), for a total of 0.900 mgd (peak day) (Docket No. 20120303).

3. Project Sponsor and Facility: Caernarvon Township Authority, Caernarvon Township, Berks County, Pa. Application for renewal of groundwater withdrawal of up to 0.080 mgd (30-day average) from Well 6 (Docket No. 19820912).

4. Project Sponsor and Facility: Chesapeake Appalachia, LLC (Susquehanna River), Athens Township, Bradford County, Pa. Application for renewal of surface water withdrawal of up to 1.440 mgd (peak day) (Docket No. 20080906).

5. Project Sponsor and Facility: Chesapeake Appalachia, LLC (Susquehanna River), Mehoopany Township, Wyoming County, Pa. Application for renewal of surface water withdrawal of up to 0.999 mgd (peak day) (Docket No. 20080923).

6. Project Sponsor and Facility: Chesapeake Appalachia, LLC (Susquehanna River), Wysox Township, Bradford County, Pa. Application for renewal of surface water withdrawal of up to 0.999 mgd (peak day) (Docket No. 20080914).

7. Project Sponsor and Facility: Citrus Energy (Susquehanna River), Washington Township, Wyoming County, Pa. Application for renewal of surface water withdrawal of up to 1.994 mgd (peak day) (Docket No. 20081205).

8. Project Sponsor and Facility: Equipment Transport, LLC (Pine Creek), Gaines Township, Tioga County, Pa. Application for surface water withdrawal of up to 0.467 mgd (peak day).

9. Project Sponsor and Facility: Galeton Borough Water Authority, Galeton Borough, Potter County, Pa. Application for groundwater withdrawal of up to 0.288 mgd (30-day average) from the Germania Street Well.

10. Project Sponsor and Facility: Houtzdale Municipal Authority (Beccaria Springs), Gulich Township, Clearfield County, Pa. Application for surface water withdrawal of up to 5.000 mgd (peak day).

11. Project Sponsor and Facility: Hydro Recovery-Antrim LP, Duncan Township, Tioga County, Pa. Application for consumptive water use of up to 1.872 mgd (peak day).

12. Project Sponsor and Facility: Mark Manglaviti & Scott Kresge (Tunkhannock Creek), Tunkhannock Township, Wyoming County, Pa. Application for surface water withdrawal of up to 0.999 mgd (peak day).

13. Project Sponsor and Facility: Mountain Energy Services, Inc. (Tunkhannock Creek), Tunkhannock Township, Wyoming County, Pa. Modification to increase surface water withdrawal by an additional 0.499 mgd (peak day), for a total of 1.498 mgd (peak day) (Docket No. 20100309).

14. Project Sponsor: Perdue Grain and Oilseed, LLC. Project Facility: Perdue Soybean Crush Plant, Conoy Township, Lancaster County, Pa. Application for consumptive water use of up to 0.300 mgd (peak day).

15. Project Sponsor: Perdue Grain and Oilseed, LLC. Project Facility: Perdue Soybean Crush Plant, Conoy Township, Lancaster County, Pa. Application for groundwater withdrawal of up to 0.028 mgd (30-day average) from Well AP-2.

16. Project Sponsor: R.R. Donnelley & Sons Company. Project Facility: West Plant, City of Lancaster, Lancaster County, Pa. Modification to increase consumptive water use by an additional 0.019 mgd (peak day), for a total of 0.099 mgd (peak day) (Docket No. 19910702).

17. Project Sponsor and Facility: Talisman Energy USA Inc. (Sugar Creek), West Burlington Township, Bradford County, Pa. Application for renewal of surface water withdrawal of up to 2.000 mgd (peak day) (Docket No. 20090327).

18. Project Sponsor and Facility: Talisman Energy USA Inc. (Towanda Creek—Franklin Township Volunteer Fire Department), Franklin Township, Bradford County, Pa. Application for renewal of surface water withdrawal of up to 2.000 mgd (peak day) (Docket No. 20081210).

19. Project Sponsor and Facility: Titanium Metals Corporation (TIMET), Caernarvon Township, Berks County, Pa. Modification to increase consumptive water use by an additional 0.044 mgd (peak day), for a total of 0.177 mgd (peak day) (Docket No. 20080616).

20. Project Sponsor and Facility: Ultra Resources, Inc. (Cowanesque River), Deerfield Township, Tioga County, Pa. Application for renewal of surface water withdrawal of up to 0.217 mgd (peak day) (Docket No. 20081229).

21. Project Sponsor and Facility: Ultra Resources, Inc. (Pine Creek), Pike Township, Potter County, Pa. Application for renewal of surface water withdrawal of up to 0.936 mgd (peak day) (Docket No. 20090332).

22. Project Sponsor and Facility: WPX Energy Appalachia, LLC (Susquehanna River), Great Bend Township, Susquehanna County, Pa. Application for renewal of surface water withdrawal of up to 1.000 mgd (peak day) (Docket No. 20090303).

Authority: Pub. L. 91-575, 84 Stat. 1509 et seq., 18 CFR parts 806-808.

Dated: January 11, 2013.
Thomas W. Beauduy,
Deputy Executive Director.

[FR Doc. 2013-01499 Filed 1-24-13; 8:45 am]

BILLING CODE 7040-01-P